DEPARTMENT OF COMMERCE

National Oceanic and Atmospheric Administration

[I.D. 052406C]

Marine Mammals; File Nos. 455-1760, 116-1786, 898-1764

AGENCY: National Marine Fisheries Service (NMFS), National Oceanic and Atmospheric Administration (NOAA), Commerce.

ACTION: Notice; issuance of permits.

SUMMARY: Notice is hereby given that permits to conduct research and/or enhancement activities on captive Hawaiian monk seals (Monachus schauinslandi) have been issued to the following organizations:

File No. 455-1760: The Waikiki Aquarium, 2777 Kalakaua Avenue, Honolulu, HI 96815 (Dr. Andrew Rossiter, Responsible Party).

File No. 116-1786: Sea World, Inc., 7007 Sea World Dr., Orlando, FL 32821 (Brad Andrews, Responsible Party).

File No. 898-1764: Sea Life Park Hawaii, 41-202 Kalanianaole Highway, Waimanalo, HI 96795 (Dr. Renato Lenzi, Responsible Party).

ADDRESSES: The permit and related documents are available for review upon written request or by appointment in the following office(s):

Permits, Conservation and Education Division, Office of Protected Resources, NMFS, 1315 East-West Highway, Room 13705, Silver Spring, MD 20910; phone (301)713-2289; fax (301)427-2521;

Pacific Islands Region, NMFS, 1601 Kapiolani Blvd., Rm 1110, Honolulu, HI 96814-4700; phone (808)973-2935; fax (808)973-2941; and

Southeast Region, NMFS, 9721 Executive Center Drive North, St. Petersburg, FL 33702-2432; phone (727)570-5301; fax (727)570-5320.

FOR FURTHER INFORMATION CONTACT: Amy Sloan or Jennifer Skidmore, (301)713-2289.

SUPPLEMENTARY INFORMATION: On May 19, 2005, notice was published in the Federal Register (70 FR 28909) that a request for an enhancement permit had been submitted by Sea World, Inc. On July 15, 2004, notice was published in the Federal Register (69 FR 42424) that a request for a scientific research and enhancement permit application had been submitted by the Waikiki Aquarium, and an enhancement permit application had been submitted by Sea Life Park Hawaii. The requested permits have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permits authorize continued captive maintenance, enhancement, and research (at the Waikiki Aquarium only) on endangered Hawaiian monk seals. The permits will expire in 5 years.

In compliance with the National Environmental Policy Act of 1969 (42 U.S.C. 4321 et seq.), an environmental assessment was prepared analyzing the effects of the permitted activities. After a Finding of No Significant Impact, the determination was made that it was not necessary to prepare an environmental impact statement.

Issuance of these permits, as required by the ESA, were based on a finding that such permit: (1) Were applied for in good faith; (2) will not operate to the disadvantage of such endangered species; and (3) are consistent with the purposes and policies set forth in section 2 of the ESA.

Dated: May 26, 2006.
P. Michael Payne,
Chief, Permits, Conservation and Education Division, Office of Protected Resources, National Marine Fisheries Service.

[FR Doc. E6-8621 Filed 6-1-06; 8:45 am]

BILLING CODE 3510-22-S